DEPARTMENT OF ENERGY

[OE Docket No. EA-284-A]

Application to Export Electric Energy; Sempra Energy Solutions

AGENCY: Office of Electricity Delivery and Energy Reliability, DOE.

ACTION: Notice of Application.

SUMMARY: Sempra Energy Solution (SES) has applied to renew its authority to transmit electric energy from the United States to Canada pursuant to section 202(e) of the Federal Power Act.

DATES: Comments, protests, or requests to intervene must be submitted on or before September 22, 2006.

ADDRESSES: Comments, protests, or requests to intervene should be addressed as follows: Office of Electricity Delivery and Energy Reliability, Mail Code: OE-20, U.S. Department of Energy, 1000 Independence Avenue, SW., Washington, DC 20585-0350 (FAX 202-586-5860).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On September 4, 2003, the Department of Energy (DOE) issued Order No. EA-284 authorizing SES to transmit electric energy from the United States to Mexico for a three-year term. That authorization will expire on September 4, 2006.

On August 12, 2006, SES filed an application with DOE for renewal of the export authority contained in Order No. EA-284. SES proposes to export electric energy to Mexico and to arrange for the delivery of those exports over the international transmission facilities presently owned San Diego Gas & Electric Company.

SES has also requested DOE expedite the processing of its application in order that SES may continue to meet contractual agreements with counterparts in Mexico. Accordingly, DOE has shortened the public comment period to 15 days.

Procedural Matters: Any person desiring to become a party to these proceedings or to be heard by filing comments or protests to this application should file a petition to intervene, comment or protest at the address provided above in accordance with §§ 385.211 or 385.214 of the Federal Energy Regulatory Commission's Rules of Practice and Procedures (18 CFR 385.211, 385.214). Fifteen copies of each petition and protest should be filed with the DOE on or before the dates listed above.

Comments on the SES application to export electric energy to Mexico should be clearly marked with Docket EA-284-A. Additional copies are to be filed directly with Theodore E. Roberts, Attorney for Sempra Energy Solutions, 101 Ash Street, HQ13D, San Diego, CO 92101.

A final decision will be made on this application after the environmental impacts have been evaluated pursuant to the National Environmental Policy Act of 1969, and a determination is made by DOE that the proposed action will not adversely impact on the reliability of the U.S. electric power supply system.

Copies of this application will be made available, upon request, for public inspection and copying at the address provided above or you may send an e-mail to Odessa Hopkins at odessa.hopkins@hq.doe.gov.

Issued in Washington, DC, on August 31, 2006.
Anthony J. Como,
Director, Permitting and Siting, Office of Electricity Delivery and Energy Reliability.

[FR Doc. E6-14804 Filed 9-6-06; 8:45 am]

BILLING CODE 6450-01-P